COMMISSION ON CIVIL RIGHTS

Agenda and Notice of Public Meeting of the Rhode Island Advisory Committee

DATES: Dates and Times: Monday, July 21, 2014, at 12:00 p.m. [ET].

Place: Via Teleconference. Public Dial-in: 1-877-446-3914; Listen Line Code: 6509423.

TDD: Dial Federal Relay Service 1-800-977-8339 give operator the following number: 202-376-7533—or by email at ero@usccr.gov.

Notice is hereby given, pursuant to the provisions of the rules and regulations of the U.S. Commission on Civil Rights (Commission), and the Federal Advisory Committee Act (FACA), that a planning meeting of the Rhode Island Advisory Committee to the Commission will convene via conference call on Friday, July 25, 2014. The purpose of the planning meeting is for the Advisory Committee to discuss the project proposal on human trafficking and to plan a future briefing meeting.

The meeting will be conducted via conference call. In order to reserve a sufficient number of lines, members of the public, including persons with hearing impairments, who wish to listen to the conference call, are asked to either call (202-376-7533) or email the Eastern Regional Office (ERO), (ero@usccr.gov) ten days in advance of the scheduled meeting. Persons with hearing impairments must first dial the Federal Relay Service TDD: 1-800-977-8339 and give the operator the Eastern Regional Office number (202-376-7533).

Members of the public who call-in can expect to incur charges for calls they initiate over wireless lines, and the Commission will not refund any incurred charges. Callers will incur no charge for calls they initiate over land-line connections to the toll-free telephone number.

Members of the public are entitled to submit written comments. The comments must be received in the ERO by August 25, 2014. Comments may be mailed to the Eastern Regional Office, U.S. Commission on Civil Rights, 1331 Pennsylvania Avenue, Suite 1150, Washington, DC 20425, faxed to (202) 376-7548, or emailed to Paul Eliasson at ero@usccr.gov. Persons who desire additional information may contact the Eastern Regional Office at 202-376-7533.

Records generated from these meetings may be inspected and reproduced at the Eastern Regional Office, as they become available, both before and after each meeting. Persons interested in the work of this advisory committee are advised to go to the Commission's Web site, www.usccr.gov, or to contact the Eastern Regional Office at the above phone number, e-mail or street address.

The meetings will be conducted pursuant to the provisions of the rules and regulations of the Commission and FACA.

Dated: July 3, 2014.
David Mussatt,
Acting Chief, Regional Programs Coordination Unit.

[FR Doc. 2014-16041 Filed 7-8-14; 8:45 am]

BILLING CODE 6335-01-P